DEPARTMENT OF THE INTERIOR

National Park Service

National Register of Historic Places; Weekly Listing of Historic Properties

Pursuant to (36CFR60.13(b,c)) and (36CFR63.5), this notice, through publication of the information included herein, is to apprise the public as well as governmental agencies, associations and all other organizations and individuals interested in historic preservation, of the properties added to, or determined eligible for listing in, the National Register of Historic Places from July 27 to July 31, 2009.

For further information, please contact Edson Beall via: United States Postal Service mail, at the National Register of Historic Places, 2280, National Park Service, 1849 C St., NW., Washington, DC 20240; in person (by appointment), 1201 Eye St., NW., 8th floor, Washington DC 20005; by fax, 202-371-2229; by phone, 202-354-2255; or by e-mail, Edson_Beall@nps.gov.

Dated: September 15, 2009.
J. Paul Loether,
Chief, National Register of Historic Places/National Historic Landmarks Program.

Key: State, County, Property Name, Address/Boundary, City, Vicinity, Reference Number, Action, Date, Multiple Name

COLORADO

Jefferson County

Brook Forest Inn, 8136 S. Brook Forest Rd., Evergreen, 09000567, LISTED, 7/29/09

ILLINOIS

Cook County

Episcopal Church of the Atonement and Parish House, The, 5751 N. Kenmore Ave., Chicago, 09000590, LISTED, 7/30/09

KENTUCKY

Franklin County

Central Frankfort Historic District, Bounded by East and West 2nd St., Logan St., the Kentucky River, High St., and Mero St., Frankfort, 09000570, LISTED, 7/28/09

NEW JERSEY

Camden County

Mount Peace Cemetery and Funeral Directing Company Cemetery, 329 US Rt. 30, Lawnside, 08000971, LISTED, 7/29/09

NEW YORK

Albany County

Lustron Houses of Jermain Street Historic District, 1, 3, 5, 7, 8 Jermain St., Albany, 09000572, LISTED, 7/29/09 (Lustron Houses in New York MPS)

Columbia County

Dick House, 641 Co. Rte. 8, Germantown vicinity, 09000573, LISTED, 7/29/09

Herkimer County

Emmanuel Episcopal Church, 588 Albany St., Little Falls vicinity, 09000574, LISTED, 7/29/09

Lewis County

Lewis County Soldiers' and Sailors' Monument, Village Green, NY 26 and Bostwick Sts., Lowville vicinity, 09000575, LISTED, 7/29/09

RHODE ISLAND

Newport County

Indian Avenue Historic District, 357-515 Indian Ave. and 55-75 Vaucluse Ave., Middletown, 09000362, DETERMINED ELIGIBLE, 5/29/09

Providence County

Borders Farm, 31-38 N. Rd, Foster, 09000576, LISTED, 7/29/09

TENNESSEE

Sumner County

Trousdale-Baskerville House, 211 W. Smith St., Gallatin, 09000577, LISTED, 7/30/09

WASHINGTON

King County

Roanoke Park Historic District, Bounded by Shelby St. on the N., Roanoke St. on the S., Harvard Ave on the W., 10th Ave. on the E., Seattle, 09000578, LISTED, 7/30/09

Lincoln County

Atlas E Missile Site 9, 36000 Crescent Rd. N., Reardan vicinity, 09000579, LISTED, 7/31/09

WISCONSIN

Columbia County

Farnham, Fred and Lucia, House, 553 W. James St., Columbus, 09000580, LISTED, 7/30/09

Columbia County

Jones, John A. and Maggie, House, 307 N. Ludington St., Columbus, 09000581, LISTED, 7/30/09

[FR Doc. E9-23887 Filed 10-2-09; 8:45 am]

BILLING CODE P